INTERNATIONAL TRADE COMMISSION

[Investigation Nos. 701-TA-579-580 and 731-TA-1369-1372 (Preliminary)]

Fine Denier Polyester Staple Fiber From China, India, Korea, and Taiwan

Determinations

On the basis of the record ¹ developed in the subject investigations, the United States International Trade Commission (“Commission”) determines, pursuant to the Tariff Act of 1930 (“the Act”), that there is a reasonable indication that an industry in the United States is materially injured by reason of imports of fine denier polyester staple fiber from China, India, Korea, and Taiwan provided for in subheading 5503.20.00 of the Harmonized Tariff Schedule of the United States, that are allegedly sold in the United States at less than fair value (“LTFV”) and subsidized by the governments of China and India.

¹ The record is defined in sec. 207.2(f) of the Commission's Rules of Practice and Procedure (19 CFR 207.2(f)).

Commencement of Final Phase Investigations

Pursuant to section 207.18 of the Commission's rules, the Commission also gives notice of the commencement of the final phase of its investigations. The Commission will issue a final phase notice of scheduling, which will be published in the Federal Register as provided in section 207.21 of the Commission's rules, upon notice from the Department of Commerce (“Commerce”) of affirmative preliminary determinations in the investigations under sections 703(b) or 733(b) of the Act, or, if the preliminary determinations are negative, upon notice of affirmative final determinations in those investigations under sections 705(a) or 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On May 31, 2017, DAK Americas LLC, Charlotte, NC; Nan Ya Plastics Corporation, America, Lake City, SC; and Auriga Polymers Inc., Charlotte, NC filed a petition with the Commission and Commerce, alleging that an industry in the United States is materially injured or threatened with material injury by reason of subsidized imports of fine denier polyester staple fiber from China and India and LTFV imports of fine denier polyester staple fiber from China, India, Korea, Taiwan, and Vietnam. Accordingly, effective May 31, 2017, the Commission, pursuant to sections 703(a) and 733(a) of the Act (19 U.S.C. 1671b(a) and 1673b(a)), instituted countervailing duty investigation Nos. 701-TA-579-580 and antidumping duty investigation Nos. 731-TA-1369-1373 (Preliminary). On July 13, 2017, the Department of Commerce terminated its antidumping duty investigation of imports of fine denier polyester staple fiber from Vietnam, following a request for withdrawal of the petition. Accordingly, the Commission has also terminated its antidumping duty investigation concerning fine denier polyester staple fiber from Vietnam (Investigation No. 731-TA-1373).

Notice of the institution of the Commission's investigations and of a public conference to be held in connection therewith was given by posting copies of the notice in the Office of the Secretary, U.S. International Trade Commission, Washington, DC, and by publishing the notice in the Federal Register of June 7, 2017 (82 FR 26512). The conference was held in Washington, DC, on June 21, 2017, and all persons who requested the opportunity were permitted to appear in person or by counsel.

The Commission made these determinations pursuant to sections 703(a) and 733(a) of the Act (19 U.S.C. 1671b(a) and 1673b(a)). It completed and filed its determinations in these investigations on July 17, 2017. The views of the Commission are contained in USITC Publication 4709 (July 2017), entitled Fine Denier Polyester Staple Fiber from China, India, Korea, and Taiwan: Investigation Nos. 701-TA-579-580 and 731-TA-1369-1372 (Preliminary).

By order of the Commission.
Issued: July 17, 2017.
Lisa R. Barton,
Secretary to the Commission.

[FR Doc. 2017-15299 Filed 7-20-17; 8:45 am]

BILLING CODE 7020-02-P